DEPARTMENT OF TRANSPORTATION

Federal Aviation Administration

14 CFR Part 39

[Docket No. FAA-2022-0281; Project Identifier MCAI-2021-01315-R; Amendment 39-22056; AD 2022-11-06]

RIN 2120-AA64

Airworthiness Directives; Leonardo S.p.a. Helicopters

AGENCY: Federal Aviation Administration (FAA), DOT.

ACTION: Final rule.

SUMMARY: The FAA is adopting a new airworthiness directive (AD) for certain Leonardo S.p.a. Model A109S and AW109SP helicopters. This AD was prompted by a report of a protective sheath, installed around a fixed flight control rod, which should have been removed during assembly. This AD requires borescope inspecting certain parts, and removing any foreign object if detected, as specified in a European Union Aviation Safety Agency (EASA) AD, which is incorporated by reference. The FAA is issuing this AD to address the unsafe condition on these products.

DATES: This AD is effective July 6, 2022.

The Director of the Federal Register approved the incorporation by reference of a certain publication listed in this AD as of July 6, 2022.

ADDRESSES: For EASA material incorporated by reference (IBR) in this final rule, contact EASA, Konrad-Adenauer-Ufer 3, 50668 Cologne, Germany; telephone +49 221 8999 000; email ADs@easa.europa.eu; internet www.easa.europa.eu. For Leonardo S.p.a. service information identified in this final rule, contact Leonardo S.p.A. Helicopters, Emanuele Bufano, Head of Airworthiness, Viale G.Agusta 520, 21017 C.Costa di Samarate (Va) Italy; telephone (+39) 0331-225074; fax (+39) 0331-229046; or at https://customerportal.leonardocompany.com/en-US/. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. Service information that is IBRed is also available in the AD docket at https://www.regulations.gov by searching for and locating Docket No. FAA-2022-0281.

Examining the AD Docket

You may examine the AD docket at https://www.regulations.gov by searching for and locating Docket No. FAA-2022-0281; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Background

EASA, which is the Technical Agent for the Member States of the European Union, has issued EASA AD 2021-0255, dated November 15, 2021, and corrected November 24, 2021 (EASA AD 2021-0255), to correct an unsafe condition for Leonardo S.p.A. Helicopters Model A109S helicopters, serial number (S/N) 22735, 22736, and 22737, and equipped with Trekker Kit; and Model AW109SP helicopters, S/N 22407, 22408, 22409, 22412, 22414 to 22427 inclusive, and 22429.

The FAA issued a notice of proposed rulemaking (NPRM) to amend 14 CFR part 39 by adding an AD that would apply to Leonardo S.p.a. Model A109S helicopters, S/N 22735, 22736, and 22737, and equipped with Trekker Kit; and Model AW109SP helicopters S/N 22407, 22408, 22409, 22412, 22414 through 22427 inclusive, and 22429. The NPRM published in the Federal Register on March 22, 2022 (87 FR 16120). The NPRM was prompted by a report of a protective sheath, installed around a fixed flight control rod, which should have been removed during assembly. The NPRM proposed to require borescope inspecting certain parts, and removing any foreign object if detected, as specified in EASA AD 2021-0255.

The FAA is issuing this AD to detect any foreign object contamination, which if not addressed, could affect the free movement of the flight controls and result in subsequent reduced control of the helicopter. See EASA AD 2021-0255 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. This AD is adopted as proposed in the NPRM.

Related Service Information Under 1 CFR Part 51

EASA AD 2021-0255 specifies procedures for borescope inspecting certain part-numbered parts installed on the control rods and levers of the rotors flight controls, and removing any foreign object if detected.

This material is reasonably available because the interested parties have access to it through their normal course of business or by the means identified in the ADDRESSES section.

Other Related Service Information

The FAA reviewed Leonardo Helicopters Alert Service Bulletin No. 109SP-148, dated October 26, 2021 (ASB 109SP-148). This service information specifies instructions for borescope inspecting certain part-numbered parts installed on the control rods and levers of the rotors flight controls of the left-hand and right-hand forward struts and removing foreign objects.

The FAA also reviewed Leonardo Helicopters Alert Service Bulletin No.109S-104, dated October 26, 2021, which specifies the same instructions as ASB 109SP-148 but only applies to Model A109S helicopters with certain Trekker Kits installed.

Costs of Compliance

The FAA estimates that this AD affects 1 helicopter of U.S. Registry. Labor rates are estimated at $85 per work-hour. Based on these numbers, the FAA estimates the following costs to comply with this AD.

Borescope inspecting the control rods and levers of the rotor flight controls for any foreign object takes about 4 work-hours for an estimated cost of $340 per inspection and $340 for the U.S. fleet.

The FAA estimates the following costs to do any necessary on-condition corrective actions that are required based on the results of the inspection:

Removing any foreign object would take a minimal amount of time with a minimal parts cost.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-11-06 Leonardo S.p.a.: Amendment 39-22056; Docket No. FAA-2022-0281; Project Identifier MCAI-2021-01315-R.

(a) Effective Date

This airworthiness directive (AD) is effective July 6, 2022.

(b) Affected ADs

None.

(c) Applicability

This AD applies to Leonardo S.p.a. Model A109S helicopters, serial number (S/N) 22735, 22736, and 22737, and equipped with Trekker Kit; and Model AW109SP helicopters S/N 22407, 22408, 22409, 22412, 22414 through 22427 inclusive, and 22429, certificated in any category.

(d) Subject

Joint Aircraft Service Component (JASC) Code: 6700, rotorcraft Flight Control.

(e) Unsafe Condition

This AD was prompted by a report of a protective sheath, installed around a fixed flight control rod, which should have been removed during assembly. The FAA is issuing this AD to detect any foreign object contamination, which if not addressed, could affect the free movement of the flight controls and result in subsequent reduced control of the helicopter.

(f) Compliance

Comply with this AD within the compliance times specified, unless already done.

(g) Requirements

Except as specified in paragraph (h) of this AD: Comply with all required actions and compliance times specified in, and in accordance with, European Union Aviation Safety Agency (EASA) AD 2021-0255, dated November 15, 2021, and corrected November 24, 2021 (EASA AD 2021-0255).

(h) Exceptions to EASA AD 2021-0255

(1) Where EASA AD 2021-0255 requires compliance in terms of flight hours, this AD requires using hours time-in-service.

(2) Where EASA AD 2021-0255 refers to its effective date, this AD requires using the effective date of this AD.

(3) Where paragraph (1) of EASA AD 2021-0255 specifies “inspect each affected part in accordance with the instructions of the applicable ASB,” for this AD replace “in accordance with the instructions of the applicable ASB” with “in accordance with the Accomplishment Instructions, Section 3, paragraph 5. of the applicable ASB.”

(4) Where paragraph (2) of EASA AD 2021-0255 specifies “if, during the inspection as required by paragraph (1) this AD, any foreign object is found on an affected part, before next flight, remove that foreign object in accordance with the applicable ASB,” this AD requires if any foreign object is found, before further flight, remove the foreign object. The instructions in the “applicable ASB” are for reference only and are not required for the actions in paragraph (2) of EASA AD 2021-0255.

(5) This AD does not mandate compliance with the “Remarks” section of EASA AD 2021-0255.

(i) Special Flight Permit

Special flight permits may be issued in accordance with 14 CFR 21.197 and 21.199, provided no passengers are onboard.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0255, dated November 15, 2021, and corrected November 24, 2021.

(ii) [Reserved]

(3) For EASA AD 2021-0255, contact EASA, Konrad-Adenauer-Ufer 3, 50668 Cologne, Germany; telephone +49 221 8999 000; email ADs@easa.europa.eu; internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0281.

(5) You may view this material that is incorporated by reference at the National Archives and Records Administration (NARA). For information on the availability of this material at NARA, email fr.inspection@nara.gov, or go to: https://www.archives.gov/federal-register/cfr/ibr-locations.html.

Issued on May 16, 2022.
Gaetano A. Sciortino,
Deputy Director for Strategic Initiatives, Compliance & Airworthiness Division, Aircraft Certification Service.

[FR Doc. 2022-11557 Filed 5-31-22; 8:45 am]

BILLING CODE 4910-13-P